COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action delete product(s) and service(s) from the Procurement List that were furnished by nonprofit agencies employing persons who are blind or have other severe disabilities.

DATES: Date deleted from the Procurement List: June 01, 2025.

ADDRESSES: Committee for Purchase From People Who Are Blind or Severely Disabled, 355 E Street SW, Suite 325, Washington, DC 20024.

FOR FURTHER INFORMATION CONTACT: Michael R. Jurkowski, telephone: (703) 489-1322, or email CMTEFedReg@AbilityOne.gov.

SUPPLEMENTARY INFORMATION:

Deletions

On 3/28/2025 (90 FR 14127), the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

7530-00-286-7286—Folder, File, Pressboard, ⅕ Cut Tab, Light Green, Letter

7530-00-286-6925—Folder, File, Paperboard, ⅕ Cut Tab, Light Green, Letter

7530-00-286-6926—Folder, File, Pressboard, ⅕ Cut Tab, Light Green, Legal

7530-00-286-6924—Folder, File, Pressboard, ⅓ Cut Tab, Light Green, Legal

7530-00-286-6923—Folder, File, Pressboard, ⅓ Cut Tab, Light Green, Legal

Authorized Source of Supply: Georgia Industries for the Blind, Bainbridge, GA

Contracting Activity: GSA/FAS ADMIN SVCS ACQUISITION BR(2, NEW YORK, NY

NSN(s)—Product Name(s):

1670-01-598-5071—Containerized Unitized Bulk Equipment (CUBE) Lifeliner, Fuel Kit

1670-01-598-5067—Containerized Unitized Bulk Equipment (CUBE) Lifeliner, Water Kit

Authorized Source of Supply: Peckham Vocational Industries, Inc., Lansing, MI

Contracting Activity: W6QK ACC-APG NATICK, NATICK, MA

Contracting Activity: DLA AVIATION, RICHMOND, VA

Service(s)

Service Type: Janitorial Service

Mandatory for: U.S. Fish and Wildlife Service, National Eagle and Wildlife Property Repository and Law Enforcement Office, (except wildlife property storage area (warehouse)), Commerce City, CO

Authorized Source of Supply: Bayaud Enterprises, Inc., Denver, CO

Contracting Activity: U.S. FISH AND WILDLIFE SERVICE, U.S. FISH AND WILDLIFE

Michael R. Jurkowski,
Director, Business Operations.

[FR Doc. 2025-07654 Filed 5-1-25; 8:45 am]

BILLING CODE 6353-01-P